DEPARTMENT OF DEFENSE

Office of the Secretary

[Docket ID: DoD-2024-OS-0030]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by February 5, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Family Member Travel Screening; Form Number DD 3040, 3040-1, 3040-2, 3040-3, 3040-4; OMB Control Number 0704-0560.

Type of Request: Reinstatement.

Number of Respondents: 302,205.

Responses per Respondent: 1.

Annual Responses: 302,205.

Average Burden per Response: 18.026 minutes.

Annual Burden Hours: 90,793.

Needs and Uses: The DD Forms 3040, 3040-1, 3040-2, 3040-3, and 3040-4 are used during the Family Member Travel Screening process when active-duty Service members with Permanent Change of Station order request Command sponsorship for accompanied travel to remote or outside continental United States installations. These forms document any special medical, dental, and/or educational needs of dependents accompanying the Service member to assist in determining the availability of care at a gaining installation. This standardized collection of information is required by the National Defense Authorization Act (NDAA) of 2010, 10 United States Code 136 `Under Secretary of Defense for Personnel and Readiness,' and the DoD Instruction (DoDI) 1315.19, “The Exceptional Family Member Program (EFMP).” The NDAA 2010 established the Office of Special Needs (OSN) and tasked OSN with developing, implementing, and overseeing comprehensive policies surrounding assignment and support for these military families. Additionally, per DoDI 1315.19, military departments are required to screen family members of active duty Service members for special needs and to coordinate assignments for Service members enrolled in the EFMP to verify if necessary medical and/or educational services are available at the next assignment.

Affected Public: Individuals or households.

Frequency: On occasion.

Respondent's Obligation: Voluntary.

DoD Clearance Officer: Mr. Reginald Lucas.

Dated: December 30, 2024.
Stephanie J. Bost,
Alternate OSD Federal Register Liaison Officer, Department of Defense.

[FR Doc. 2024-31661 Filed 1-3-25; 8:45 am]

BILLING CODE 6001-FR-P